DEPARTMENT OF HEALTH AND HUMAN SERVICES

National Institutes of Health

National Institute on Drug Abuse; Amended Notice of Meeting

Notice is hereby given of a change in the meeting of the National Institute on Drug Abuse Special Emphasis Panel, May 11, 2010, 1:30 p.m. to May 11, 2010, 3 p.m., National Institutes of Health, 6101 Executive Boulevard, Rockville, MD 20852 which was published in the Federal Register on March 24, 2010, 75; 56 FR 2010-6266.

The date of the meeting was changed from May 11, 2010 to May 18, 2010. The meeting is closed to the public.

Dated: April 29, 2010.
Jennifer Spaeth,
Director, Office of Federal Advisory Committee Policy.

[FR Doc. 2010-10881 Filed 5-6-10; 8:45 am]

BILLING CODE 4140-01-P